INTERNATIONAL TRADE COMMISSION

[USITC SE-00-050]

Sunshine Act Meeting

AGENCY HOLDING THE MEETING: United States International Trade Commission.

TIME AND DATE: November 20, 2000 at 2:00 p.m.

PLACE: Room 101, 500 E Street S.W., Washington, DC 20436, Telephone: (202) 205-2000.

STATUS: Open to the public.

MATTERS TO BE CONSIDERED: 1. Agenda for future meeting: none.

2. Minutes.

3. Ratification List.

4. Inv. No. 731-TA-864 (Final) (Stainless Steel Butt-Weld Pipe Fittings from Germany)—briefing and vote. (The Commission is currently scheduled to transmit its determination and Commissioners' opinions to the Secretary of Commerce on November 29, 2000.)

5. Outstanding action jackets: none.

In accordance with Commission policy, subject matter listed above, not disposed of at the scheduled meeting, may be carried over to the agenda of the following meeting.

Issued: November 7, 2000.
By order of the Commission:
Donna R. Koehnke,
Secretary.

[FR Doc. 00-29073 Filed 11-8-00; 1:36 pm]

BILLING CODE 7020-02-M